DEPARTMENT OF THE INTERIOR

Bureau of Land Management

[LLUTW01100-LF2000ES-JS0000-LFESE4J7]

Notice of Closure to Motorized Vehicle Travel on Public Lands in the Big Pole Fire Area in Tooele County, UT

AGENCY: Bureau of Land Management, Interior.

ACTION: Notice of temporary closure

SUMMARY: Notice is hereby given that a temporary closure to motorized vehicle travel was implemented as of May 17, 2010. This closure affects 27,100 acres of public land administered by the Salt Lake Field Office, Bureau of Land Management (BLM), within the Big Pole Fire area in Tooele County, Utah.

DATES: This temporary closure on motor vehicle travel within the described area will remain in effect for a minimum of 2 years from May 17, 2010, the date the closure order was signed by the authorized officer. The closure may be extended beyond this period, if necessary, until the BLM Salt Lake Field Office Manager has determined emergency stabilization and rehabilitation treatments have been successful and the threat of resource damage from motorized vehicle travel no longer exists in the area. The BLM will provide appropriate public notification when the motor vehicle travel restrictions are lifted for the area. Fencing and closure signs will be removed as necessary.

FOR FURTHER INFORMATION CONTACT: Glenn Carpenter, District Manager, BLM, West Desert District, 2370 South 2300 West, Salt Lake City, Utah 84119; by phone at 801-977-4300; or by e-mail at utslmail@blm.gov. Persons who use a telecommunications device for the deaf (TDD) may call the Federal Information Relay Service (FIRS) at 1-800-877-8339 to contact the above individuals during normal business hours. The FIRS is available 24 hours a day, 7 days a week, to leave a message or question with the above individuals. You will receive a reply during normal hours.

SUPPLEMENTARY INFORMATION: This temporary closure affects public lands within the Big Pole Fire area in Tooele County, Utah, and encompasses all public lands administered by the BLM Salt Lake Field Office east of State Route 196, south of Interstate 80, west of the crest of the Stansbury Mountain range, and north of the Skull Valley Goshute Indian Reservation in Tooele County, Utah. The legal description of the affected area is all public lands within Townships 1, 2, 3 and 4 South, Ranges 7 and 8 West, Salt Lake Meridian.

The closure and stabilization actions were analyzed pursuant to the National Environmental Policy Act, in the Big Pole Fire Motor Vehicle Closure environmental assessment (DOI-BLM-W010-2010-0005-EA) and FY2009 Emergency Stabilization and Rehabilitation determination of NEPA adequacy (DOI-BLM-UT-W000-2009-0001-DNA), respectively. This closure is being implemented for the purposes of protecting soil, watershed, vegetation, and cultural resources which the BLM Salt Lake Field Office has determined are at immediate risk. The reasons for implementing this closure are based on a risk determination which, in turn, is based on field observations and stabilization planning conducted by the BLM staff specialists following the Big Pole Fire, which started on August 6, 2009, and was declared contained on August 16, 2009. This wildfire was particularly intense due to winds in excess of 40 mph and heavy fuel loads of cheatgrass and juniper trees. The BLM monitoring revealed extensive resource damage caused by the burn patterns and the severity of a wildfire that burned over 44,000 acres in approximately 24 hours. Heavy soil scorching and a total loss of vegetative cover have resulted in a significantly greater risk for water runoff and soil erosion. Soil composition in the area is highly erodible. Subsequent motor vehicle traffic in burned areas has increased the risk of erosion and may have a negative impact on efforts to stabilize soils and establish new vegetation. Motor vehicle travel may also increase the spread of invasive species, such as cheatgrass, into areas damaged by wildfire. The BLM Salt Lake Field Office is implementing a comprehensive emergency stabilization and rehabilitation plan within the Big Pole fire area which includes seeding, planting, soil treatments, noxious weed control, fencing, signing, resource monitoring, and law enforcement. The following persons are exempt from this order: Federal, state, and local officers and employees in the performance of their official duties; members of organized rescue or fire-fighting forces in the performance of their official duties; and persons with written authorization from the Bureau of Land Management.

The closure order has been posted at major entry points to the burn area. Copies of the closure order and maps of the closed area have been made available at the BLM West Desert District's Salt Lake Field Office, 2370 South 2300 West, Salt Lake City, UT 84119. The closure was also published on the BLM Salt Lake Field Office Web site and distributed to local government and media outlets.

Penalties: Under the authority of Section 303(a) of the Federal Land Policy and Management Act of 1976 (43 U.S.C. 1733(a)), 43 CFR 8341.2(a), 43 CFR 8364.1, and 43 CFR 9268.3(d), the Bureau of Land Management is enforcing the following rule(s) within the Big Pole Fire Area:

You must not use motorized vehicles in the closed area. Any person who violates the above rule may be issued a citation, tried before a United States Magistrate, and fined no more than $1,000, imprisoned for no more than 12 months, or both, as provided for in 43 CFR 8340.0-7. Such violations may also be subject to the enhanced fines provided for by 18 U.S.C. 3571 and 3581.

Authorities: 43 CFR 8341.2(a), 8364.1, and 9268.3(d).

Juan Palma,
State Director.

[FR Doc. 2010-27030 Filed 10-25-10; 8:45 am]

BILLING CODE 4310-DQ-P